SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

The information collections below are pending at SSA. SSA will submit them to OMB within 60 days from the date of this notice. To be sure we consider your comments, we must receive them no later than January 11, 2011. Individuals can obtain copies of the collection instruments by calling the SSA Reports Clearance Officer at 410-965-8783 or by writing to the above email address.

1. Reporting Events-SSI—20 CFR 416.701-416.732—0960-0128. Supplemental Security Income (SSI) applicants, recipients, or their representative payees must report any change in circumstances that could affect eligibility for SSI payments or the payment amount. SSA uses Form SSA-8150 for this purpose. The information assists us in determining if we should continue SSI payments or change a payment amount. The respondents are applicants for or recipients of SSI payments, or their representative payees.

Type of Request: Revision of an OMB-approved information collection.

Number of Respondents: 27,320.

Frequency of Response: 1.

Average Burden per Response: 5 minutes.

Estimated Annual Burden: 2,277 hours.

2. Request for Review of Hearing Decision/Order—20 CFR 404.967-404.981, 416.1467-416.1481—0960-0277. Claimants have a statutory right under the Social Security Act and implementing regulations to request review of an administrative law judge's (ALJ) hearing decision or dismissal of a hearing request on Title II and Title XVI claims. Claimants may request Appeals Council review by filing a written request using Form HA-520. SSA uses the information to establish the claimant filed her or his request for review within the prescribed time and to ensure the claimant completed the requisite steps permitting the Appeals Council review. The Appeals Council uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Number of Respondents: 145,000.

Frequency of Response: 1.

Average Burden per Response: 10 minutes.

Estimated Annual Burden: 24,167 hours.

3. Development for Participation in a Vocational Rehabilitation or Similar Program—20 CFR 404.316(c), 404.337(c), 404.352(d), 404.1586(g), 404.1596, 404.1597(a), 404.327, 404.328, 416.1338(c)(d), 416.1320(d), 416.1331(a)-(b), and 416.1338-0960-0282. State Disability Determination Services (DDS) must determine if Social Security disability payment recipients, whose disability ceased and who participate in vocational rehabilitation programs, may continue to receive disability payments. To do this, DDSs need information about the recipients, the types of program participation, and the services they receive under the rehabilitation program. SSA uses Form SSA-4290 to collect this information. The respondents are State employment networks, vocational rehabilitation agencies, or other providers of educational or job training services.

Type of Request: Revision of an OMB-approved information collection.

Number of Respondents: 3,000.

Frequency of Response: 1.

Average Burden per Response: 15 minutes.

Estimated Annual Burden: 750 hours.

4. Modified Benefit Formula Questionnaire—0960-0395. The Windfall Elimination Provision of the Social Security Act removes an unintended advantage in computing Social Security benefits for persons with substantial pensions from non-covered employment. SSA collects information on Form SSA-150 to determine the correct formula to use in computing the Social Security benefit for someone who receives a pension from employment not covered by Social Security. The respondents are applicants for Title II benefits.

Type of Request: Revision of an OMB-approved information collection.

Number of Respondents: 90,000.

Frequency of Response: 1.

Average Burden per Response: 8 minutes.

Estimated Annual Burden: 12,000 hours.

5. Acknowledgement of Receipt (Notice of Hearing)—20 CFR 404.938 & 416.1438—0960-0671. SSA uses Forms HA-504 and HA-504-OP1 to inform claimants of a scheduled hearing. Claimants complete the form to acknowledge they will attend the hearing or to request the ALJ reschedule the hearing. The ALJ uses the information to prepare for the scheduled hearing or to reschedule the hearing to a different date or location. The only difference between the two forms is the exclusion of the video teleconferencing option on the HA-504-OP1. We exclude video teleconferencing when it is not feasible, based on certain circumstances, for the ALJ to use it. The respondents are applicants for Social Security benefits who request a hearing to appeal an unfavorable entitlement or eligibility determination.

Type of Request: Revision of an OMB-approved information collection.

Version of the HA-504 | Number of respondents | Frequency of response | Average burden per response (minutes) | Total annual burden (hours)
HA-504 (with teleconferencing) | 70,000 | 1 | 30 | 35,000
HA-504-OP1 | 630,000 | 1 | 30 | 315,000
Total | 700,000 |  |  | 350,000

Dated: November 8, 2010.
Liz Davidson,
Center Director, Center for Reports Clearance, Social Security Administration.

[FR Doc. 2010-28510 Filed 11-10-10; 8:45 am]

BILLING CODE 4191-02-P